DEPARTMENT OF HOMELAND SECURITY

Federal Emergency Management Agency

[Docket ID: FEMA-2014-0033; OMB No. 1660-0132]

Agency Information Collection Activities: Proposed Collection; Comment Request, Level 1 Assessment Form, Level 3 Evaluation Form for Students, and Level 3 Evaluation Form for Supervisors

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning course evaluation surveys at the Center for Domestic Preparedness.

DATES: Comments must be submitted on or before January 20, 2015.

ADDRESSES: To avoid duplicate submissions to the docket, please use only one of the following means to submit comments:

(1) Online. Submit comments at www.regulations.gov under Docket ID FEMA-2014-XXXX. Follow the instructions for submitting comments.

(2) Mail. Submit written comments to Docket Manager, Office of Chief Counsel, DHS/FEMA, 500 C Street SW., Room 8, NE., Washington, DC 20472-3100.

(3) Facsimile. Submit comments to (202) 212-4701.

(4) Email. Submit comments to FEMA-POLICY@dhs.gov. Include Docket ID FEMA-2014-0033 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Linda S. Pressley Instructional Systems Specialist, Center for Domestic Preparedness, 256-231-0112 for additional information. You may contact the Records Management Division for copies of the proposed collection of information at facsimile number (202) 212-4701 or email address: FEMA-Information-Collections-Management@fema.dhs.gov.

SUPPLEMENTARY INFORMATION: The CDP is required by Congress to “identify, develop, test, and deliver training to State, local, and tribal emergency response providers, provide on-site and mobile training at the performance and management and planning levels, and facilitate the delivery of training by the training partners of the Department” pursuant to Section 1204 of the Implementing Recommendations of the 9/11 Commission Act of 2007, Public Law 110-53, 121 Stat. 266, August 3, 2007 (codified at 6 U.S.C. 1102). The collection of this data will help facilitate that Congressional mandate.

Collection of Information

Title: Level 1 Assessment Form, Level 3 Evaluation Form for Students, and Level 3 Evaluation Form for Supervisors.

Type of Information Collection: Revision of a currently approved information collection.

OMB Number: OMB No. 1660-0132.

Form Titles and Numbers: FEMA Form 092-0-2; Level 1 Assessment Form. FEMA Form 092-0-2A; Level 3 Evaluation Form for Students. FEMA Form 092-0-2B; Level 3 Evaluation Form for Supervisors.

Abstract: The forms will be used to survey the Center for Domestic Preparedness (CDP) students (and their supervisors) enrolled in CDP courses. The survey will collect information regarding quality of instruction, course material, and impact of training on their professional employment.

Affected Public: Local, State or Tribal governments

Estimated Total Annual Burden Hours
Data collection activity/instrument | Number of respondents | Frequency of responses | Hour burden per response | Annual responses | Total annual burden hours
| (A) | (B) | (C) | (D) = (A × B) | (C × D)
Level 1 Assessment Form, FEMA Form 092-02 | 38,000 | 1 | 0.25 | 38,000 | 9,500
Level 3 Evaluation Form for Students FEMA Form-092-02A | 6,000 | 1 | 0.25 | 6,000 | 1,500
Level 3 Evaluation Form for Supervisors, FEMA Form-092-02B | 600 | 1 | 0.25 | 600 | 150
Total | 44,600 | 1 | 0.25 | 44,600 | 11,150

Estimated Cost: $403,795.25

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 12, 2014.
Charlene D. Myrthil,
Director, Records Management Division, Mission Support, Federal Emergency Management Agency, Department of Homeland Security.

[FR Doc. 2014-27397 Filed 11-18-14; 8:45 am]

BILLING CODE 9111-53-P